DEPARTMENT OF ENERGY

Federal Energy Regulatory Commission

[Docket No. RP00-266-000]

TransColorado Gas Transmission Company; Notice of Tariff Filing

May 4, 2000.

Take notice that on May 1, 2000, TransColorado Gas Transmission Company (TransColorado) tenders for filing as part of its FERC Gas Tariff, Original Volume No. 1, Fourth Revised Sheet No. 247 and First Revised Sheet No. 247A, to be effective June 1, 2000.

TransColorado states that the tariff sheets sets forth TransColorado's Fuel Gas Reimbursement Percentage (FGRP) calculation. The proposed tariff sheets revise the monthly variance calculations to state that the variance-adjustment component of the FGRP will be calculated on an annual basis instead of monthly.

TransColorado stated that a copy of this filing has been served upon its customers, the New Mexico Public Utilities Commission and the Colorado Public Utilities Commission.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www. ferc.fed.us/online/ rims.htm (call 202-208-2222 for assistance).

David P. Boergers,
Secretary.

[FR Doc. 00-11623 Filed 5-9-00; 8:45 am]

BILLING CODE 6717-01-M